DEPARTMENT OF ENERGY

Federal Energy Regulatory Commission

[Docket No. EC06-126-000]

Boston Edison Company, Commonwealth Electric Company, Canal Electric Company, Cambridge Electric Light Company; Notice of Shortened Comment Period

September 22, 2006.

On September 19, 2006, the Commission issued a notice in the above referenced proceeding. Combined Notice of Filing #1, September 19, 2006. The comment date was October 5, 2006. By this notice, the date for filing comments is shortened to and including September 29, 2006.

Magalie R. Salas,
Secretary.

[FR Doc. E6-15998 Filed 9-28-06; 8:45 am]

BILLING CODE 6717-01-P